DEPARTMENT OF HEALTH AND HUMAN SERVICES

Health Resources and Services Administration

Administration for Children and Families

Advisory Committee on the Maternal, Infant and Early Childhood Home Visiting Program Evaluation; Notice of Meeting

In accordance with section 10(a)(2) of the Federal Advisory Committee Act (Pub. L. 92-463, 5 U.S.C. Appendix 2), notice is hereby given of the following meeting:

Name: Advisory Committee on the Maternal, Infant and Early Childhood Home Visiting Program Evaluation.

Date and Time: March 23, 2011, 9 a.m.-3 p.m. EST.

Place: Webinar.

The Advisory Committee on the Maternal, Infant and Early Childhood Home Visiting Program Evaluation will meet for its first session on Wednesday, March 23, 2011, from 9 a.m. to 3 p.m. EST. The general public can join the meeting via webinar by logging onto http://www.mchcom.com/LiveWebcastDetail.asp?leid=469, clicking on the “Register now” button, and then following the instructions. Participants should launch the webinar no later than 8:40 a.m. EST in order for the logistics to be established for participation in the call. If there are technical problems gaining access to the call, please click on the “Report a technical problem/request help” link associated with the registration page: http://www.mchcom.com/LiveWebcastDetail.asp?leid=469.

Meeting Registration: General public participants are asked to register for the conference by going to the registration Web site at http://www.mchcom.com/LiveWebcastDetail.asp?leid=469.

Special Accommodations: Attendees requiring special accommodations such as large print materials or additional special accommodations may make comments when registering at the online Web site by clicking on the “Report a technical problem/request help” link associated with the registration page: http://www.mchcom.com/LiveWebcastDetail.asp?leid=469.

Agenda: The meeting will include: (1) Welcoming remarks and presentation of the charge for the Committee, (2) introduction of Committee members, (3) a presentation of the Maternal, Infant and Early Childhood Home Visiting (MIECHV) program, and (4) a presentation and discussion of the goals, challenges, and options for the design of the national evaluation of the MIECHV program. Agenda items are subject to change as priorities dictate.

Public Comments: Members of the public may submit written comments that will be distributed to Committee members prior to the conference call. Written comments must be received by Monday, March 21, 2011, for consideration. Comments can be submitted using the email link on the registration page: http://www.mchcom.com/LiveWebcastDetail.asp?leid=469.

FOR FURTHER INFORMATION CONTACT: Any person interested in obtaining other relevant information can contact Ms. Billie Butler, Maternal and Child Health Bureau, Health Resources and Services Administration; e-mail: bbutler@hrsa.gov; telephone: (301) 443-1149.

SUPPLEMENTARY INFORMATION: The Advisory Committee on the Maternal, Infant and Early Childhood Home Visiting Program Evaluation is authorized by subsection 511(g)(1) of Title V of the Social Security Act (42 U.S.C. 701 et seq.) as amended by section 2951 of the Patient Protection and Affordable Care Act of 2010 (Pub. L. 111-148) (Affordable Care Act). The purpose of the Committee is to advise the Secretary of Health and Human Services on the design, plan, progress, and findings of the evaluation required for the home visiting program under the Affordable Care Act. More specifically, the Committee is to review, and make recommendations on, the design and plan for this evaluation; maintain and advise the Secretary regarding the progress of the evaluation; and comment, if the Committee so desires, on the report submitted to Congress under subsection 511(g)(3) of Title V.

The study design options for this national evaluation will be formally presented to the Committee for review. The Administration for Children and Families (ACF) has contracted with MDRC, formerly known as Manpower Demonstration Research Corporation, a nonprofit, nonpartisan education and social policy research organization, to develop the design options for the evaluation of the home visiting program.

As specified in the legislation, the evaluation will provide a state-by-state analysis of the needs assessments and the States' actions in response to the assessments. Additionally, as specified in the legislation, the evaluation will provide an assessment of: (a) The effect of early childhood home visiting programs on outcomes for parents, children, and communities with respect to domains specified in the Affordable Care Act (such as maternal and child health status, school readiness, and domestic violence, among others); (b) the effectiveness of such programs on different populations, including the extent to which the ability to improve participant outcomes varies across programs and populations; and (c) the potential for the activities conducted under such programs, if scaled broadly, to enhance health care practices, eliminate health disparities, improve health care system quality, and reduce costs.

Dated: March 4, 2011.
Mary K. Wakefield,
Administrator, Health Resources and Services Administration.
Dated: March 4, 2011.
Mark Greenberg,
Deputy Assistant Secretary for Policy, Administration for Children and Families.

[FR Doc. 2011-5508 Filed 3-7-11; 4:15 pm]

BILLING CODE 4165-15-P